DEPARTMENT OF LABOR

Employment And Training Administration

[TA-W-57,543]

J-R-Greene, Inc., Boonton, NJ; Notice of Termination of Investigation

Pursuant to section 221 of the Trade Act of 1974, as amended, an investigation was initiated on July 13, 2005, in response to a petition filed by a company official on behalf of workers at J-R-Greene, Inc., Boonton, New Jersey.

The petitioner has requested that the petition be withdrawn. Consequently, the investigation has been terminated.

Signed in Washington, DC this 26th day of July, 2005.
Richard Church,
Certifying Officer, Division of Trade Adjustment Assistance.

[FR Doc. E5-4398 Filed 8-11-05; 8:45 am]

BILLING CODE 4510-30-P